DEPARTMENT OF DEFENSE

Office of the Secretary

Notice of Intent To Grant an Exclusive License; Ad Astra Integrity Measurement Systems, Inc.

AGENCY: National Security Agency, Department of Defense (DoD).

ACTION: Notice of intent.

SUMMARY: The National Security Agency hereby gives notice of its intent to grant Ad Astra Integrity Measurement Systems, Inc. a revocable, non-assignable, exclusive, license to practice the following Government-Owned invention as described and claimed in United States Patent Number (USPN), 8,326,579, Method and system for program execution integrity measurement; and USPN, 7,904,278, Method and system for program execution integrity measurement.

DATES: Anyone wishing to object to the grant of this license has until March 1, 2023 to file written objections including evidence and argument that establish that the grant of the license would not be consistent with the requirements of 35 U.S.C. 209 and 37 CFR 404.7.

ADDRESSES: Written objections are to be filed with the National Security Agency Technology Transfer Program, 9800 Savage Road, Suite 6843, Fort George G. Meade, MD 20755-6843.

FOR FURTHER INFORMATION CONTACT: Linda L. Burger, Director, Technology Transfer Program, 9800 Savage Road, Suite 6843, Fort George G. Meade, MD 20755-6843, telephone (443) 634-3518.

SUPPLEMENTARY INFORMATION: The prospective exclusive license will comply with the terms and conditions of 35 U.S.C. 209 and 37 CFR 404.7. The patent rights in these inventions have been assigned to the United States Government as represented by the National Security Agency.

Dated: February 8, 2023.
Aaron T. Siegel,
Alternate OSD Federal Register Liaison Officer, Department of Defense.

[FR Doc. 2023-03049 Filed 2-13-23; 8:45 am]

BILLING CODE 5001-06-P